DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) allow the proposed information collection project: “Use of IT and Health IT Among Health Centers funded under Section 330 of the Public Health Service Act”. In accordance with the Paperwork Reduction Act of 1995, Public Law 104-13 (44 U.S.C. 3506(c)(2)(A)), AHRQ invites the public to comment on this proposed information collection.

DATES: Comments on this notice must be received by April 25, 2006.

ADDRESSES: Written comments should be submitted to: Cynthia D. McMichael, Reports Clearance Officer, AHRQ, 540 Gaither Road, Suite 5022, Rockville, MD 20850. Copies of the proposed collection plan, data collection instrument, and specific details on the estimated burden can be obtained from AHRQ's Reports Clearance Officer.

FOR FURTHER INFORMATION CONTACT: Cynthia D. McMichael, AHRQ, Reports Clearance Officer, (301) 427-1651.

SUPPLEMENTARY INFORMATION:

Proposed Project

“Use of IT and Health IT Among Health Centers funded under Section 330 of the Public Health Service Act.”

This project is being conducted under contact 290-04-0016 between the Agency for Healthcare Quality and Research and the National Opinion Research Center (NORC) at the University of Chicago, the prime contractor for AHRQ's National Resource Center for Health Information Technology. AHRQ, in close collaboration with the Health Resources and Services Administration's (HRSA) Bureau of Primary Health care (BPHC), is requesting that NORC conduct an assessment of the use of information technology (IT) at ambulatory health centers funded under Section 330 of the Public Health Services Act. Specifically, the project will assess IT applications which assist in improving the quality, safety, efficiency, and effectiveness of health care (health IT) at HRSA-funded ambulatory health centers.

For the purposes of this project, AHRQ and HRSA have drafted an Intra-Agency Agreement (AHRQ IAA #05-404R-05) which establishes roles and responsibilities for both agencies. HRSA, AHRQ and NORC will work collaboratively to develop the analytic questions, survey tool, sampling strategy and analysis plan. AHRQ and HRSA will review data runs as well as descriptive and comparative analysis. NORC will field the survey, conduct descriptive and comparative analysis, and report findings to both AHRQ and HRSA.

The HRSA-funded health centers from a key part of the nation's health care “safety net,” delivering primary car medical services to vulnerable populations. Special administrative requirements, including tracking and reporting on their patient populations, maintaining patient-specific data and supporting disease registries for vulnerable populations, make health centers a prime target for implementing health IT applications. As such, health centers represent and early laboratory for health IT adoption, use, and impact among ambulatory health care providers.

The study will inquire about the gains and challenges experienced at selected health centers in the implementation of IT programs. Information will be collected with regard to the following topics and issues: current state of Health Information Technology (HIT) use, goals and approach to HIT, readiness for HIT adoption and expansion, management of HIT issues and adherence to requirements, and overall experience with HIT implementation of sustainability, including successes experienced and barriers encountered.

Findings from the proposed collection will assist policy makers at AHRQ, HRSA and elsewhere as they seek to build on this early IT adoption among health centers and promote policy efforts to encourage the implementation of IT in ambulatory health care settings to achieve efficiency and quality of care objectives.

Date Confidentiality

To obtain the necessary information, surveys will be conducted with staff at selected HRSA-funded health centers. The study will primarily involve the use of web-based interviews, although some telephone interviews will be conducted when selected health centers do not respond online. All appropriate measures will be taken to protect the confidentiality of individual respondents and their institution. Web surveys are administered using an encrypted SSL connection using secured web data collection servers. Access to response data will be limited on a strictly “need to access” basis and any person accessing the data will have signed a corporate confidentially pledge which clearly enumerates their responsibilities in this regard including AHRQ's statutory confidentiality requirements and specific consequences of improper disclosures or allowing breaches in confidentiality.

Methods of Collection

The data will be collected from a systematic random sample of 450 of the approximately 920 total HRSA Section 330-funded Health Centers. Centers will be chosen stratified by urbanicity (urban, rural and suburban) and geographical area. The expected response rate of 75 percent will result in data from approximately 338 centers.

One survey will be completed by each organization. Multiple individuals from each Health Center may be respondents, including senior management and administrative personnel, information technology staff, and clinicians.

Based on experience with surveys of similar length, the estimate is that the questionnaire will take one hour to complete. The primary method of data collection will be web-based self-administered questionnaire. All sample centers will receive an advance e-mail followed a week later by an e-mail containing instructions for accessing the Web survey. We will use a multiple mode approach to follow-up with centers that do not complete the survey within 4 weeks of the initial e-mailing.

Estimated Annual Respondent Burden
Data collection effort | Number of respondents | Estimated time per respondent (minutes) | Estimated total burden to respondents (hours) | Average hourly wage rate | Estimated annual cost to health center respondent
Online and Telephone Surveys * | 338 | 60 | 338 | $42.38 | $14,324.44
* Using the mean of the average wages for managers in medicine, physicians and computer systems analyst/scientist as reported in the National Compensation Survey: Occupational Wages in the United States, 2004, (U.S. Department of Labor, Bureau of Labor Statistics, September 2004), we estimate the total hourly cost to respondents to be $42.38 or $14,324.44 across all 338 health center respondents.

Request for Comments

In accordance with the above cited legislation, comments on AHRQ's information collection are requested with regard to any of the following: (a) Whether the proposed collection of information is necessary for the proper performance of functions of AHRQ, including whether the information will have practical utility; (b) the accuracy of AHRQ's estimate of burden (including hours and cost) of the proposed collection of information; (c) ways to enhance the quality, utility and clarity of the information to be collected; and (d) ways to minimize the burden of the collection of information upon the respondents, including the use of automated collection techniques or other forms of information technology.

Comments submitted in response to this notice will be summarized and included in the request for OMB approval of the proposed information collection. All comments will become a matter of public record.

Dated: February 16, 2006.
Carolyn M. Clancy,
Director.

[FR Doc. 06-1716 Filed 2-23-06; 8:45 am]

BILLING CODE 4160-90-M